DEPARTMENT OF HOUSING AND URBAN DEVELOPMENT

[Docket No. FR-4560-FA-18]

Housing Opportunities for Persons With AIDS Program Announcement of Funding Awards—FY 2000

AGENCY: Office of the Assistant Secretary for Community Planning and Development, HUD.

ACTION: Announcement of funding awards.

SUMMARY: In accordance with section 102(a)(4)(C) of the Department of Housing and Urban Development Reform Act of 1989, this notice announces the funding decisions made by the Department under the Fiscal Year 2000 Housing Opportunities for Persons with AIDS (HOPWA) program. The notice announces the selection of 22 project applications and two Technical Assistance applications under the FY 2000 HOPWA national competition which were announced under the Super Notice of Funding Availability (SuperNOFA) for Housing Community Development and Empowerment Programs. The notice contains the names of award winners and the amounts of the awards.

FOR FURTHER INFORMATION CONTACT: David Vos, Director, Office of HIV/AIDS Housing, Department of Housing and Urban Development, Room 7212, 451 Seventh Street, SW, Washington, DC 20410, telephone (202) 708-1934. The TDD number for the hearing impaired is (202) 708-2565. (These are not toll-free numbers). Information on HOPWA, community development and consolidated planning, and other HUD programs may also be obtained from the HUD Home Page on the World Wide Web. In addition to this competitive selection, 101 jurisdictions received formula based allocations during FY 2000 for $207.2 million in HOPWA funds. Descriptions of the formula programs is found at www.hud.gov/cpd/hopwahom.html.

SUPPLEMENTARY INFORMATION. The purpose of the HOPWA program competition was to award project grants for housing assistance and supportive services under two categories of assistance: (1) Grants for special projects of national significance which, due to their innovative nature or their potential for replication, are likely to serve as effective models in addressing the needs of low-income persons living with HIV/AIDS and their families; and (2) grants for projects which are part of long-term comprehensive strategies for providing housing and related services for low-income persons living with HIV/AIDS and their families in areas that do not receive HOPWA formula allocations.

The purpose of the HOPWA Technical Assistance competition was to award grants that provide support for program operations. HUD established national goals for these funds: (1) Ensuring the sound management of HOPWA programs; and (2) targeting resources to underserved population.

The HOPWA assistance made available in this announcement is authorized by the AIDS Housing Opportunity Act (42 U.S.C. 12901), as amended by the Housing and Community Development Act of 1992 (Pub. L. 102-550, approved October 28, 1992) and was appropriated by the HUD Appropriations Act for 2000. The competition was announced in a SuperNOFA published in the Federal Register on February 24, 2000 (65 FR 9865). Each application was reviewed and rated on the basis of selection criteria contained in that Notice. A total of $23.6 million was awarded to the 22 highest rated project applications in their ranked order and two technical assistance applications for $1.74 million.

Public Benefit. The award of HOPWA funds to these 22 projects will significantly contribute to HUD's mission in supporting projects that provide safe, decent and affordable housing for persons living with HIV/AIDS and their families who are at risk of homelessness. The projects proposed to use HOPWA funds to support the provision of housing assistance to an estimated 2,700 low-income people with HIV/AIDS and their families. In addition, an estimated 5,100 persons with HIV/AIDS are expected to benefit from some form of supportive service or housing information referral service that will help enable the client to maintain housing and avoid homelessness. The recipients of this assistance are expected to be very-low income or low-income households. These 22 applicants also documented that the Federal funds awarded in this competition, $23.6 million, will leverage an additional $49 million in other funds and non-cash resources including the contribution of volunteer time in support of these projects, valued at $10/hour. The leveraged resources will expand the HOPWA assistance being awarded by 208 percent.

A total of $23.6 million was awarded to these 22 organizations to serve clients in the eighteen listed States:

FY 2000 HOPWA Competitive Awards by State

Alaska

The Alaska Housing Finance Corporation will receive $572,600 to continue to provide housing services for persons with HIV/AIDS in cooperation with its sponsor, the Alaskan AIDS Assistance Association. The grant builds on prior HOPWA grants in 1994 and 1997 that were used to initiate the State's AIDS housing programs in this non-formula area. Housing and support services will be made available to 100 households in Anchorage and the southcentral, southwestern and western regions of the State. A comprehensive range of services will also be provided by Four As such as case management, employment services, treatment and transportation, especially in addressing needs to access health care in rural areas. Through a network of state agencies and community based organizations who have committed over $2,000,000 in resources, persons with HIV/AIDS will be able to continue to reside in their home communities by support services to meet needs of each client. For information contact: Kris Duncan, PO Box 101020, Anchorage, AK 99510; (907) 330-8276 or by email: kduncan@ahfc.state.ak.us.

California

The Salvation Army, Southern California Division, will receive a grant of $927,888 to support operating costs and supportive services at a 45-unit transitional and permanent housing program for families affected by HIV/AIDS. The Alegria housing project is being developed in the Silverlake district of Los Angeles and will serve clients in Los Angeles County. Alegria will support a range of housing options for clients with graduated services, including transitional support with intensive services, family services in independent living arrangements and care in a licensed residential facility. The project will adjust to changes in service needs and help maintain families as they transition through needs while remaining in their home residence. Over $9 million in other funds and in-kind services have been leveraged to develop this facility and operate the planned programs. For information contact: Lt. Colonel Alfred R.Van Cleef, Divisional Commander, 900 W. James M. Wood Blvd., Los Angeles, CA 90015, (213) 553-3253; or Jerry Hill by email: JerryAHill@aol.com.

The County of Sacramento, Department of Human Assistance will receive a grant of $1,300,142 for the Breaking Barriers Housing Project, a collaborative of human service agencies from both the Homeless Continuum of Care and the HIV Services Continuum in Sacramento. The primary partners in this collaborative are the AIDS Housing Alliance, and Volunteers of America. In addition, the Center for AIDS Research, Education and Services (CARES), the Sacramento Housing and Redevelopment Agency, and Breaking Barriers (a program of River City Metropolitan Community Church) will act as in-kind partners. This project will complete the continuum of care in this region by addressing an underserved population of persons who are homeless and avoid traditional shelter programs. The city will establish a 12-bed, 30-day emergency shelter to address this local gap in the continuum of housing and supportive services. The City is committing 120 tenant-based Section 8 assistance slots to provide permanent housing for clients who successfully complete transitional programs. For information contact: Cheryl Davis, Director, 2433 Marconi Avenue, Sacramento, CA 95821, (916) 874-4333 or by email: cmiles@saccounty.net.

The San Francisco Redevelopment Agency will receive $1,370,000 under the Special Projects of National Significance (SPNS) initiative to improve the current housing conditions for underserved homeless persons who are living with HIV/AIDS in the City and County of San Francisco. Catholic Charities of the Archdiocese of San Francisco will serve as the project sponsor in operating the Second Start Program that will assist homeless HIV/AIDS persons with support in getting a job or returning back to work through vocational training and independent living. The project will address re-entry issues such as discrimination, lack of recent work experience, and client uncertainty about the effects of income gains on disability and medical benefits. In addition, many clients may also need support to address homelessness, mental health and substance use issues. The program will combine the use of partial rent subsidies for 125 households with access to 10 units of services enriched SRO housing, as needed. The City and Catholic Charities are collaborating with the Public Health Institute and the Positive Resource Center and tested the program in an initial pilot effort. For information contact: James Morales, Executive Director, 770 Golden Gate Avenue, San Francisco, CA 94102: (415) 749-2479 or Olson Lee, Housing Manager, by email: Olson_Lee@ci.sf.ca.us.

Colorado

The Colorado Division of Housing will receive $1,370,000 to provide rental assistance and short-term rent payments and related services in the areas of the State outside of the Denver metropolitan area. Under the Colorado Housing Assistance Made Possible (CHAMP) program, the State will partner with the Colorado AIDS Project, The Boulder County AIDS Project, Western Colorado AIDS Project, South Colorado AIDS Project, and the North Colorado AIDS Project to operate the program in each region. The nonprofits will offer over 50 units of tenant-based rental assistance and assist 487 households with short-term rent payments to prevent homelessness. In addition, AIDS Housing of Washington will assist in developing a state-wide needs assessment and plan. The State agency will provide overall administrative oversight of the sponsors and will evaluate outcomes. The agency will also provide housing inspections directly or through affiliated local housing authorities. This is the first time that HOPWA funds are being awarded to establish AIDS housing programs in these areas which do not receive HOPWA formula grants. Champ builds on a long history of statewide collaboration and coordination of AIDS-related services and will incorporate $7,948,231 in leverage funds. An estimated 537 individuals living with HIV/AIDS and their families will receive some form of housing assistance. For information contact: Tom Hart, Division Director, 1313 Sherman Street, Room 518, Denver, CO 80203; (303) 866-4123 or Patrick Coyle by email: pat.coyle@state.co.us.

Georgia

The City of Savannah, Bureau of Public Development will receive a $1,197,572 grant to expand on its collaboration with Union Mission, Inc. and six other project sponsors with the Savannah-Chatham AIDS Continuum of Care. Under the AIDS Neighborhood Association of Savannah project, the City will acquire and renovate ten units of housing, directly across the street from Phoenix Place, a one-stop service and medical center for persons living with HIV/AIDS. The program will serve an underserved neighborhood with a high concentration of African-Americans. The project will expand the existing AIDS Continuum of Care to serve 50 percent more persons, streamline the intake process for housing services and expand substance abuse treatment. Housing placements will be coordinated by the Project House Call program and 120 persons are expected to receive housing assistance through the project. For information contact: Israel Small, Assistant City Manager, 6 East Bay Street, PO Box 1027, Savannah, GA; (912) 651-6520 or by email: Ismall@ci.savannah.ga.us.

Hawaii

In Honolulu, Gregory House Programs will receive funding to continue the supportive housing programs operating under their 1997 Special Projects of National Significance award and allow for a continuum of services for persons with multiple diagnoses. This Hawaii nonprofit will receive $1,030,000 for housing programs for persons with HIV/AIDS who are living in the Honolulu metropolitan area under two components: 40 units of tenant-based rental assistance and operational costs for a 11-bed transitional housing facility. The transitional support will involve assessment and treatment services, case management, psychiatric services and physical health care as well as life skills, money management and other programs that promote independent living skills. For information contact: Michael Burnett, Executive Director, 770 Kapiolani Blvd., Suite 503, Honolulu, HI 96813 (808) 592-9022 or by email: Michael_Burnett@gregoryhouse.org.

Illinois

The AIDS Foundation of Chicago will receive $1,362,846 under the Special Projects of National Significance (SPNS) initiative to direct assistance to underserved racial and ethnic minority communities that have been impacted by AIDS and poverty. The Foundation will help build a Renaissance Care Network that assists persons living with HIV/AIDS, with a special focus on serving an underserved population of African-Americans who reside in the Greater Roseland area of Chicago, Illinois. The project will also foster better collaboration with the community project sponsors: the Christian Community Health Center, the Clinic in Altgeld, Community Supportive Living Services, South Side Help Center and Universal Family Connection. The HOPWA funds will be used to lease 21 scattered site apartments and an array of supportive services relating to HIV counseling, testing, outreach, medical care, parenting, child care, substance abuse and mental health. During the grant period there will be 150 HIV/AIDS persons receiving some form of housing assistance. For information contact: Mark Ishaug, Executive Director, 411 South Wells Street, Suite 300, Chicago, IL 60607; (312) 922-2322 or Shelly Ebbert by email: sebbert@aidschicago.org.

Kentucky

In Kentucky, the Commonwealth's Kentucky Housing Corporation will receive $1,320,000 to support the Statewide HIV/AIDS Integrated Substance Abuse and Housing Initiative. The project will serve more than 490 persons by establishing a substance abuse treatment network that covers all 120 of Kentucky's counties, both urban and rural. Activities will be undertaken in collaboration with four non-profit project sponsors: AIDS Volunteers in Lexington; Heartland CARES, Inc. in Paducah; Transitions, Inc. in Covington; and Volunteers of America of Kentucky, Inc in Louisville. The project is an expansion and renewal of a FY 1997 HOPWA competitive grant. Short-term housing assistance will reach 231 homeless or low-income persons with chemical dependencies in connection with substance abuse treatment services and serve as a gateway to other continuum of care assistance. For information contact: F. Lynn Luallen, CEO, or Kimberly Burris, 1231 Louisville Rd., Frankfort, KY 40601; (502) 564-7630 x414 or email: kburris@kyhousing.org.

Maine

The AIDS Project (TAP) of Portland will receive $1,333,286 to continue its successful competitive SPNS program in Southern Maine and expand services to underserved persons in rural areas in the remaining areas of the State where no HOPWA funds have previously been available. TAP operates in conjunction with three sponsors in the Portland area, Peabody House, AIDS Lodging House and Shalom House and collaborates with other providers. Assistance creates a range of housing options, including 63 units of tenant-based rental assistance, 39 units of emergency shelter, 42 units of short-term rent, mortgage and utility assistance, 192 security deposits to secure housing, 6,000 hours of volunteer support for clients and a range of supportive services. The Housing Assistance and Volunteer Enlistment Network (HAVEN) is the first and only collaborative effort in Maine dedicated to comprehensively addressing the complex housing and supportive service needs of people living with HIV/AIDS. For information contact: George Friou, MPH, Executive Director, The AIDS Project, PO Box 5304 Portland, Maine 04101 (207) 774-6877 or by email: gfriou@aidsproject.org.

Maryland

The Health Care for Homeless, Inc. will receive $1,301,703 in order for them to create Project Connect to assist an underserved population of medically fragile HIV+ homeless persons in Baltimore. HCH is collaborating with Project PLASE (People Lacking Ample Shelter and Employment) as the sponsoring agency and build on findings from the City's multiple diagnoses initiative efforts in reducing barriers for clients with difficult challenges. The Project will connect housing support for 180 clients with a new level of intensive case management and comprehensive services to address the needs for the homeless or those at risk of homelessness and medically fragile. Clients will connect to efforts through the City's new Maryland Community Resource Center, a drop in center for persons with HIV/AIDS and site for service programs. The project uses a 12-bed transitional facility near the center that is operated by Project PLASE with a commitment for placement in a variety of permanent supportive housing options. Services will include personal care, chore services as well as a range of treatment programs to help clients maintain compliance with medical regime and enhance behavioral skills. For information contact: Jeff Singer, President and CEO, 111 Park Ave., Baltimore, MD 21201; (410) 837-5533 ext. 301 or Laura Gillis ext. 313 by email: Imgillis@yahoo.com.

Massachusetts

In suburban areas around Boston, Cambridge Cares About AIDS (CCAA) will receive funds for a collaboration with the Quincy Interfaith Shelter Coalition (QISC) and North Shore Community Action Program. The effort will receive $1,326,917 to support the Bay State Supportive Housing Alliance program in filling a gap in housing services by providing 24 units of transitional housing up to 24 months to individuals and families living with HIV/AIDS across Eastern Massachusetts; an estimated 82 persons will be assisted. Each provider will lease 8 units of transitional housing for clients. BSSHA will be the only program in the state that provides scattered site rental subsidies and support services while utilizing the harm reduction model for persons with HIV/AIDS and substance use histories. Services will include health promotion, including preventive case management; substance use adherence, and nutrition counseling; housing advocacy, including search and placement in permanent housing; financial advocacy, mental health counseling and aftercare stabilization. By leveraging other programs for permanent housing and existing supportive services within eastern Massachusetts, BSSHA will be able to ensure that support will remain constant after the participants complete the program and graduate into independent housing. Contact: Dan Curley, Executive Director, CCAA, 678 Massachusetts Avenue, Suite 402, Cambridge, MA 02139, Telephone (617) 661-3040 or by email: dcurley@ccaa.org

Mississippi

The South Mississippi AIDS Task Force will receive $935,500 to construct and operate Client House, in order to expand the amount of available emergency shelter and transitional housing for low income and homeless people living with AIDS and their families. The planned facility will house 12 individuals and 2 families in Biloxi and will serve the southern six counties of the State. In using this central location to consolidate service programs at one site, access should increase for clients residing in rural areas. The project is being coordinated with the Mississippi Department of Health and 25 organizations that provide related supportive services for clients, including addressing transportation needs in rural areas, treatment, independent living skills training, personal money management education and case management services. The preliminary construction design plan involves the use of eight bedrooms with a shared kitchen, living room, meeting rooms, library and office space on the first floor for delivery of service programs. In addition, the project will access the State's short-term payment program to assist clients in remaining in their current homes. For information contact: Yancy Pogue, Executive Director, PO Box 8009, Biloxi, MS 39535-8009; (228) 385-1214 or email: BSLYancy@aol.com.

New Jersey

Catholic Community Services (CCS) will receive a grant of $1,191,285 for operating costs for the St. Martin DePorres Residence, an eight unit supportive housing facility that will house multiply diagnosed people in the terminal stages of AIDS in Jersey City. St. Martin DePorres Residence will provide housing and 24-hour supportive services and palliative care to an estimated 32 multiple diagnosed homeless persons living with HIV/AIDS over the proposed 36-month project period. Through this project persons who would normally be homeless and not have access to end of life care will receive less costly non-institutional care. To support this project, Catholic Community Services has leveraged over $1.2 million in private and federal funding and will contribute leasehold interest in the building to house the St. Martin DePorres Project. For information contact: Rev. Msgr. Dennis Mahon, PhD, Executive Director, Hudson County Division, 494 Broad Street, Newark, NJ 07102, (201) 798-9923 or Elizabeth Patterson on email: elizpatt@excite.com.

New York

The Church Avenue Merchants Block Association, Inc. (CAMBA) will receive $1,080,000 to renew its HIV multiple diagnoses initiative program Housing Start. The project provides scattered site apartments in Brooklyn for forty (40) low income homeless persons living with HIV, who are homeless and have mental illness or chemical additions or both. Housing support is combined with innovative treatments and comprehensive culturally sensitive services. The funding allows for two innovations: Treatment education and intensive independent living skills training (Project Rise Reaching Independence and Self Empowerment). The project will link HIV, substance abuse, mental health services, treatment, education, health care intensive independent living skills training and other supportive services with housing assistance to maximize independent living and self determination. Housing Start will also provide acupuncture as a therapy for alcohol and drug addition, harm reduction counseling, housekeeping, case management, entitlement advocacy, home care as needed, educational/vocational training and recreational activities. Most services will be on site and will be in-kind contributions through CAMBA's other HIV/AIDS programs. For information contact: Joanne M. Oplustil, 1720 Church Ave., Brooklyn, NY 11226; (718) 287-2600 or by email: oplustil@worldnet.att.net.

In Brooklyn, Housing Works, Inc., will establish a transitional housing program to address the specialized needs of women who are living with HIV/AIDS and coming out of the criminal justice system. The program will provide 12 units of transitional housing and a range of supportive services to reinforce behavioral changes as clients begin to reintegrate into the community. The $703,177 grant will link a minimum of 75 women living with HIV/AIDS pending release or recently released from incarceration into the continuum of AIDS services, including housing and medical services. Housing Works will provide transitional housing to a minimum of 20 of these women with “bridge” support such as security deposits and moving expenses into permanent housing, and a full range of medical, clinical, psycho-social, case management services to a minimum of 18 clients. Contact: Keith Cylar, Executive Director, 594 Broadway, Suite 700, New York, NY 10012; (212) 966-0466 x275 or email: cylar@housingworks.org.

The Fortune Society will receive $1,274,875 to develop the Coming Home Program designed to meet the needs of HIV positive homeless persons who are released from jails and prisons. This population is an underserved primarily African American and Latino population which is characterized by extensive substance abuse and face significant barriers to needed services. The program will assist 125 clients with support in permanent housing after a transition through a continuum of housing modalities—emergency, transitional, supported permanent and independent permanent housing. The program will construct a facility for 12 beds for emergency and transitional housing in West Harlem that will continue as a permanent resource for the target population. A revolving loan fund will be established for clients who have been approved for entitlements but who are struggling with delays in receipt of checks. Housing services will be coupled with a broad range of supportive services needed to stabilize clients and provide them with the skills and resources needed to independently maintain housing. The program is a collaborative sponsored by the Fortune Society, drawing upon a network of referral agencies, emergency and transitional housing providers, government agencies, carefully selected realtors and a broad array of social service organizations used to provide supportive services. Contact: JoAnne Page, Executive Director, 53 West 23rd Street, New York, NY 10010; (212) 891-7554 or Brian Robinson by email: brian@fortunesociety.org.

The Center for Children and Families will receive $1,278,906 to continue New York City's first system-wide housing assistance program for homeless HIV and multiple diagnosed minority youth from 18-24 years old. Initiated under their 1997 Special Projects for National Significance award, the Center's objective is to outreach to HIV and multiple-diagnosed homeless youth in the Times Square area. An estimated 270 youth will be assisted with overnight shelter and other support. This program involves the operation of a number of specialized facilities, such as SafeSpace, a 24 hour drop in center, and using two mobile home units which canvass homeless youth on the streets. Services include client-driven conflict management resolution, day treatment programs, and overnight housing. The program operates at four sites, with day treatment programs as SafeSpace, and shelter provided at SafeHaven, a homeless youth facility for persons aged 16-24 years, Ali Forney House, a transitional housing program for homeless gay and transgender males, and SafeHome, a transitional living residence for homeless youth with multiple diagnoses. For information contact: Beverly Brooks, Executive Director, 295 Lafayette Street, Suite 920, New York, NY 10012; (212) 226-3536 or by email: bbrooks@kidsuccess.org

Pennsylvania

To help address underserved needs in rural areas, the Family Health Council of Central PA, Inc., in Camp Hill will receive a grant for $367,040 to establish a program that links health to housing for clients in a 14 county region of south and central Pennsylvania. The program will rely on eight area sponsors: The AIDS Community Alliance; the AIDS Community Resource Program; the AIDS Intervention Project; Betty Finney House/Wellspring Corporation; HOPE House; Keystone Health Center; Ordinary People, Extraordinary Needs; and York Health Corporation. These providers will deliver rental assistance support to an estimated 150 clients, especially women with HIV/AIDS in rural areas, and operate under the State's standards of care for a planned one year of operations. For more information: Cindy Groff, President & CEO, Suite 200, 3461 Market Street, Camp Hill, PA 17011-4441; (717) 761-7380 or Susan Goldy by email: goldy@fhccp.org.

Texas

The Bexar County, Department of Housing and Human Services will receive $1,320,000 to target assistance to an underserved population of women with HIV/AIDS with children. Working with its sponsor, the San Antonio Alternative Housing Corporation and a number of partners for services, the County will assist 28 families who are homeless or at risk of becoming homeless. Funds will be used to acquire and rehabilitate a building into an eight unit transitional housing facility to be coordinated with treatment and family services. This initiative will help stabilize women in housing, help address health concerns, and when able to move on, connect to permanent housing solutions, such as in housing operated by the House of Hope. For information contact: Jose E. Castillo, Executive Director, 233 North Pecos, Suite 590, San Antonio, Texas 78207; (210) 335-3666 or by email: jcastillo@co.bexar.tx.us.

Vermont

The Burlington Housing Authority will receive $471,392 to continue a program offering rental assistance and support services for residents of an 11-unit supportive housing project that was developed through a HOPWA 1996 competitive grant in a non-formula area. Vermont Cares serves as the project sponsor for the range of supportive services made available to residents. Funds will be used in combination with other public and private funding. The new component will increase housing options by providing rental assistance and support services for ten households of individuals and family living with HIV in Chittenden County. For information contact: Paul Dettman, Executive Director, 230 St. Paul Street, Burlington, VT 05401; (802) 64-0538 or by email bha@together.net.

Wyoming

The Wyoming Department of Health will receive $588,191 to expand on its previous statewide HOPWA Grant in a non-formula area. The State's 1997 program was converted from housing in a transitional facility to a short-term rent payments program in response to client requests. Funds will allow the State and its sponsors, the Wyoming AIDS Project and Casper Housing Authority to continue to meet supportive service needs and address short-term housing needs of 175 low-income people living with HIV/AIDS throughout Wyoming. Housing information referrals and over 15,000 hours of volunteer support will be used to help persons maintain independent living. For information contact: Karl Musgrave, D.V.M., M.P.H., Administrator, Hathaway Building, 4th Floor, Cheyenne, WY 82002; (307) 777-7958 or by email: TFoley@State.WY.US

Nation-Wide HOPWA Technical Assistance

The AIDS Housing Corporation

The AIDS Housing Corporation (AHC) of Boston, MA will provide regional HOPWA technical assistance in Massachusetts and the other New England States. The award of the National HOPWA Technical Assistance funds of $670,000 will allow AHC to expand on activities originally funded through its prior HOPWA awards for three Special Projects of National Significance in 1995, 1997 and 1998. AHC will further its efforts by addressing HUD's goals established in the FY 2000 SuperNOFA by increasing the sound management of HOPWA programs and assisting organizations targeting underserved populations.

AHC will provide assistance to communities and organizations in New England through a five pronged approach of: (1) Needs assessments; (2) program evaluation; (3) project development, operation, and management; (4) research, training and publications; and (5) community-wide systems development. Through these efforts, AHC will work to strengthen the collaborative relationship between service providers and increase their organizational capacity to manage and operate complex housing and supportive service programs. As a part of their TA efforts, AHC will collaborate with Connecticut AIDS Residence Coalition (CARC) to complete an extensive needs assessment and planning project for the state to gain an objective understanding of the housing and service needs of persons living with HIV and AIDS. AHC will also conduct two emergent needs assessments on changing needs in the epidemic, such as harm reduction housing, assistance for ex-offenders, cultural competency in service delivery and correlative issues of poverty and substance use and mental health challenges. Some of AHC publications are tri-lingual, in helping English, Spanish and Haitian Creole speaking persons undertake housing searches. In the Spring of 2002, AHC will host the Second New England AIDS Housing Conference based on their successful regional training event, Under One Roof, held last summer. AHC also will continue development of peer evaluations under state-wide Standards of Care in AIDS housing and provide hands-on consultations, including collaborations on housing development projects and service programs. AHC will establish a Program Manger Institute to help build capacity in nonprofit organizations and establish a consumer forum to promote citizen and resident participation in community planning.

AIDS Housing Corporation is a partner in the national HOPWA TA project, Partners in AIDS Housing National Technical Assistance (PAHNTA) along with AIDS Housing of Washington, Inc. of Seattle, WA and Bailey House of New York, both of whom are HOPWA TA providers. AHC also works with other organizations, such as the Technical Assistance Collaborative, on similar efforts under other HUD programs. For information contact: Joe Carleo, Executive Director, AIDS Housing Corporation, 29 Stanhope Street, Boston, MA 02116, (617) 927-0088; (617) 927-0852 fax, (617) 927-9576 TTY; email: jcarleo@ahc.orgwww.AHC.org

AIDS Housing of Washington, Inc.

AIDS Housing of Washington, Inc., (AHW) in Seattle, WA, will continue and expand technical assistance services with the award of $1,068,238 in National HOPWA Technical Assistance funds. The project addresses the two goals established in HUD's SuperNOFA in supporting the Sound Management of HOPWA Programs and Projects and in Targeting Resources to Underserved Populations. AHW is collaborating with other providers, such as Bailey House, Inc., Abt Associates, the Corporation for Supportive Housing, the AIDS Housing Corporation and others to offer support and guidance to nonprofit organizations and State and local governments in planning, operating and evaluating housing assistance for persons who are living with HIV/AIDS and their families. Activities will be carried out on a nation-wide basis. AHW is now organizing the Fourth National Conference on HIV/AIDS Housing, Opening Doors and Keeping Them Open, that is scheduled for June 14-17, 2001 in Denver. The conference will offer a variety of workshops and training institutes to help develop and manage housing programs, address needs of special populations, refine collaborations, expand project financing, make use of monitoring and quality standards, and enhance strategies to sustain operations for long-term project viability.

AHW will also provide direct assistance to a community that receives HOPWA funds to help it establish and enhance the area's comprehensive strategies for HIV/AIDS housing. Activities will focus on in-depth hands-on technical assistance and more general approaches in training, such as development of consumer survey instruments, publications on standards in operating programs, training on fiscal accountability and assistance in data collection efforts and evaluation and dissemination of performance results. In connection with other HOPWA grants for Special Projects of National Significance, the AHW team will help support new outreach efforts to better address the unmet needs of underserved populations, such as racial and ethnic minorities, women and persons living in rural areas. AHW will promote the participation of a broad diversity of organizations, professionals and consumers in undertaking its technical assistance activities. AHW will sponsor the second AIDS Housing Leadership Institute in 2001 and other regional and national meetings with providers and grantees. Training efforts will help build greater capacity for leadership in nonprofits and agencies that offer housing and related support to persons with HIV/AIDS. Graduates of the institute are expected to serve a peer leaders in their region in assisting other organizations enhance their operations. In addition, national meetings of HOPWA formula grantees will be held under this grant in 2002 and 2003 as well as post-award training on startup for new grantees selected in 2001-2003.

AHW will also assist in providing information on housing resources at other AIDS-related events, such as the United States Conference on AIDS that is hosted annually by the National Minority AIDS Project. In addition, a resource library and database on AIDS housing providers is maintained. In responding to requests, AHW will negotiate an appropriate scope of work to be undertaken and coordinate the technical assistance with area HUD offices. For information contact: Donald Chamberlain, Director of Technical Assistance, AIDS Housing of Washington, 2025 First Avenue, Suite 420, Seattle, WA 98121 (206) 448-5242, (206) 441-9485 fax, email: donald@aidshousing.orgwww. aidshousing.org.

Total for all 22 program grants | $23,600,000
Total for all Technical Assistance grants | 1,738,238
Total | 25,338,238

Dated: April 11, 2001.
Donna M. Abbenante,
Acting General Deputy Assistant Secretary, Office of Community Planning and Development.

[FR Doc. 01-9544 Filed 4-17-01; 8:45 am]

BILLING CODE 4210-29-P